DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for December 5-6, 2000, beginning at 8:30 a.m. on December 5. Arrange for oral presentations by December 1.

ADDRESSES: Aerospace Industries Association of America, Suite 1200, 1250 I Street, NW., Washington, DC.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held December 5-6, 2000, in Washington, DC.

The agenda will include:

December 5

• Opening Remarks

• FAA Report

• Joint Aviation Authorities Report

• Transport Canada Report

• Harmonization Management Team Report

• Executive Committee Report

• Human Factors Harmonization Working Group (HWG) Report

• Seat Test HWG Report

• Design for Security HWG Report

• Flight Guidance System HWG Report

• System Design and Analysis HWG Report

• Engine HWG Report

• Ice Protection HWG Report

• Powerplant Installation HWG Report

• Mechanical Systems HWG Report

December 6

• General Structures HWG Report

• Airworthiness Assurance Working Group Report

• Extended Range with Two-Engine Aircraft (ETOPS) Tasking Update

• Flight Test HWG Report

• Electromagnetic Effects HWG Report

• Loads & Dynamics HWG Report

• Flight Controls HWG Report

• Avionics Systems HWG Report

• Electrical Systems HWG Report

Four HWGs—Powerplant Installation, Mechanical Systems, Loads & Dynamics, and Flight Control—plan to request ARAC approval of technical reports drafted under the Fast Track Process. The EHWG plans to seek approval to forward to the FAA for economic and legal reviews a notice of proposed rulemaking (NPRM) and advisory circular (AC) addressing electrical and electronic engine control systems. The Airworthiness Assurance Working Group plans to seek approval to forward to the FAA an NPRM and AC addressing widespread fatigue damage.

Attendance is open to the public, but will be limited to the availability of meeting room space and telephone lines. Details for participating in the teleconference will be available after November 27 by contacting the person listed in the FOR FURTHER INFORMATION CONTACT section. Callers outside the Washington metropolitan area will be responsible for paying long distance charges.

The public must make arrangements by December 1 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on November 15, 2000.
Tony F. Fazio,
Director, Office of Rulemaking.

[FR Doc. 00-29917 Filed 11-21-00; 8:45 am]

BILLING CODE 4910-13-M